DELAWARE RIVER BASIN COMMISSION

18 CFR Part 401

Regulatory Program Fees; Correction

AGENCY: Delaware River Basin Commission.

ACTION: Correcting amendments.

SUMMARY: The Delaware River Basin Commission published a document in the Federal Register on December 29, 2016 (81 FR 95860), in relevant part amending the Rules of Practice and Procedure. The document failed to include rule text approved by the Commission relating to the annual monitoring and coordination fee. This document corrects the final regulations by incorporating the approved language. In addition, this document corrects the preamble to clarify that in adopting the final rule, the Commission acted by Resolution No. 2016-9, not 2016-8.

DATES: This final rule is effective January 23, 2017.

FOR FURTHER INFORMATION CONTACT: Pamela M. Bush, Commission Secretary and Assistant General Counsel, 609-477-7203.

SUPPLEMENTARY INFORMATION: Background. When the Commission adopted Resolution No. 2016-9, in relevant part approving amendments to the Rules of Practice and Procedure (18 CFR part 401) concerning regulatory program fees, it approved rule language to expressly exclude from the calculation of the annual monitoring and coordination fee all water for which an entitlement issued pursuant to the Basin Regulations—Water Supply Charges (18 CFR part 420) is in effect. Final rule documents posted on the Commission's Web site included the approved language, but the language was inadvertently omitted from DRBC's Federal Register submission and thus from the CFR.

In addition, the preamble to the final rule published in the Federal Register incorrectly referred to the Commission's rule adoption resolution as number 2016-8, when the resolution was number 2016-9.

Corrections

Preamble Correction. In final rule FR Doc. 2016-31146, beginning on page 95860 in the issue of December 29, 2016, “2016-8” is corrected to read “2016-9” in the following locations in the Supplementary Information section: On page 95860 in the second column (first line of the last paragraph) and third column (sixth line from the bottom); and on page 95861 in the first column (first line).

Rule Correction. As published, the final regulations omit language adopted by the Commission in response to comments received. The regulations are thus incorrect and in need of amendment, as set forth below.

List of Subjects in 18 CFR Part 401

Administrative practice and procedure, Project review, Water pollution control, Water resources.

Accordingly, 18 CFR part 401 is corrected by the following correcting amendments:

PART 401—RULES OF PRACTICE AND PROCEDURE

1. The authority citation for part 401 continues to read as follows:

Authority: Delaware River Basin Compact (75 Stat. 688), unless otherwise noted.

Subpart C—Project Review Under Section 3.8 of the Compact

2. In § 401.43, revise paragraph (b)(2) to read as follows:

§ 401.43 Regulatory program fees.

* * * * *

(b) * * *

(2) Annual monitoring and coordination fee. (i) Except as provided in paragraph (b)(2)(ii) of this section, an annual monitoring and coordination fee shall apply to each active water allocation or wastewater discharge approval issued pursuant to the Compact and implementing regulations, regardless of whether the approval was issued by the Commission in the form of a docket, permit or other instrument, or by a Signatory Party Agency under the One Permit Program rule (§ 401.42). The fee shall be based on the amount of a project's approved monthly water allocation and/or approved daily discharge capacity.

(ii) For any withdrawal or diversion covered in part by a certificate of entitlement issued pursuant to §§ 420.31 and 420.32 of the water supply charges regulations (18 CFR part 420), the annual monitoring and coordination fee shall be based on the allocated amount, if any, in excess of the quantity specified in the entitlement.

* * * * *

Dated: January 5, 2017.
Pamela M. Bush,
Commission Secretary.

[FR Doc. 2017-00413 Filed 1-19-17; 8:45 am]

BILLING CODE 6360-01-P